DEPARTMENT OF THE INTERIOR

Fish and Wildlife Service

[FWS-R6-R-2013-N158; FXRS1265066CCP0-134-FF06R06000]

Cokeville Meadows National Wildlife Refuge, Lincoln County, WY; Draft Comprehensive Conservation Plan and Environmental Assessment

AGENCY: Fish and Wildlife Service, Interior.

ACTION: Notice of availability; announcement of meeting; request for comments.

SUMMARY: We, the U.S. Fish and Wildlife Service (Service), announce that our draft comprehensive conservation plan (CCP) and environmental assessment (EA) for the Cokeville Meadows National Wildlife Refuge (Refuge) is available for public review and comment. The draft CCP/EA describes how the Service intends to manage this Refuge for the next 15 years. We provide this notice in compliance with our CCP policy to advise the public, other Federal and State agencies, and Tribes of the availability of the draft CCP/EA and to solicit comments.

DATES: To ensure consideration, we must receive your written comments on the draft CCP/EA by October 21, 2013. Submit comments by one of the methods under ADDRESSES. We will hold a public meeting; see Public Meeting under SUPPLEMENTARY INFORMATION for the date, time, and location.

ADDRESSES: Send your comment or requests for more information by any of the following methods.

Email: seedskadee@fws.gov. Include “Cokeville Meadows NWR Draft CCP and EA” in the subject line of the message.

Fax: Attn: Bernardo Garza, 303-236-4792.

U.S. Mail: U.S. Fish and Wildlife Service, Division of Refuge Planning, P.O. Box 25486, Denver Federal Center, Denver, CO 80225.

In-Person Drop-off, Viewing, or Pickup: Call 303-236-4377 to make an appointment (necessary for view/pickup only) during regular business hours at 134 Union Boulevard, Suite 300, Lakewood, CO 80228.

Document Request: A copy of the CCP/EA may be obtained by writing to U.S. Fish and Wildlife Service, Division of Refuge Planning, 134 Union Boulevard, Suite 300, Lakewood, CO 80228; or by download from http://mountain-prairie.fws.gov/planning.

FOR FURTHER INFORMATION CONTACT: Bernardo Garza, 303-236-4377, (phone) or bernardo_garza@fws.gov (email); or David C. Lucas, 303-236-4366 (phone), P.O. Box 25486, Denver Federal Center, Denver, CO 80225-0486.

SUPPLEMENTARY INFORMATION:

Introduction

With this notice, we continue the CCP process for the Cokeville Meadows NWR. We started this process through a notice in the Federal Register (74 FR 57328; November 5, 2009). This notice complies with our CCP policy to (1) advise other Federal and State agencies, Tribes, and the public of the availability of the draft CCP/EA for this refuge and (2) to obtain comments on the information provided in the draft CCP/EA.

Background

The CCP Process

The National Wildlife Refuge System Administration Act of 1966 (16 U.S.C. 668dd-668ee) (Refuge Administration Act), as amended by the National Wildlife Refuge System Improvement Act of 1997, requires us to develop a CCP for each unit of the National Wildlife Refuge System (Refuge System). The purpose for developing a CCP is to provide refuge managers with a 15-year plan for achieving the purposes for which their refuge was established and contributing toward the mission of the Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

The Refuge

Cokeville Meadows NWR was established in 1993 for the conservation of the wetlands of the nation, in order to maintain the public benefits they provide and to help fulfill international obligations contained in various migratory bird treaties and conventions, as well as for use as an inviolate sanctuary for migratory birds. This refuge is bisected throughout its length by the Bear River and contains a mosaic of wet meadows and cattail/bulrush sloughs. Many of these wetlands were originally created and maintained by agricultural practices. The shrub-steppe uplands are dominated by sagebrush and a combination of grasses typical of the arid West. Cokeville Meadows NWR provides nesting habitat for at least 32 water bird species; if developed, these habitats could provide suitable nesting habitat for more migratory bird species, including the trumpeter swan, a species of management concern. Refuge habitats also provide important habitat for resident species. Greater sage grouse use upland sagebrush areas for nesting, while riparian areas provide important feeding sites for their broods and a variety of neotropical migratory birds. Big game, including antelope, mule deer, and elk, also utilize Refuge habitats.

Public Outreach

We started the CCP for the Cokeville Meadows NWR in early November 2009, by inviting the Wyoming Game, Fish and Parks Department and 12 Native American tribal governments to participate in the planning process. The planning team was assembled in late November during the CCP Kickoff Meeting. We developed a mailing list and sent a planning update to all individuals and groups on that list. The planning update included basic information on the Refuge, the planning process, how the public could provide comments and become involved in the planning process, and the dates, times, and places of the two public meetings we held in public venues in two communities near the Refuge (also in November). At that time and throughout the process, we requested public comments and considered and incorporated them in numerous ways. Comments we received cover topics such as invasive plant control on refuge lands, opening the refuge to hunting and fishing opportunities, improvement of the water quality and fisheries in the Bear River, public access to the Refuge, and the Refuge habitats' management tools (e.g., grazing, haying, farming, water flooding, etc.). We have considered and evaluated all of these comments, with many incorporated into the various alternatives addressed in the draft CCP and the EA.

CCP Alternatives We Are Considering

During the public scoping process with which we started work on this draft CCP, we, State of Wyoming wildlife officials, representatives of the City of Cokeville, the Lincoln County Planning Department, the Bureau of Land Management, and the public raised several issues. Our draft CCP addresses them. A full description of each alternative is in the EA. To address these issues, we developed and evaluated the following alternatives, summarized below.

| Alternative A: Current management (No action) | Alternative B: Hydrology and Habitat Restoration | Alternative C: Resource enhancement | Alternative D: Landscape-level management (Proposed action)
Public Access to Refuge Lands to Engage in Wildlife-Dependent Public Uses | Refuge remains closed to public access except for information kiosk, walking trail at Netherly Slough and headquarters, and to opportunistic, staff-guided, environmental education programs | The Refuge: Maintains the existing open areas; Opens new access points and areas of the refuge to migratory bird, big and small game hunting, and fishing; Seeks to provide self-guided interpretive opportunities; Provides information wildlife observation and photography opportunities. | Same as Alternative B. Plus: Refuge staff seeks partners to restore Bear River riparian corridor to improve the river's water and fisheries quality. | Same as Alternative C. Plus: Refuge staff expands partnerships throughout Wyoming's Bear River watershed to improve habitats and movement corridors for wildlife and fishes.
Habitat and Wildlife Management | Continue current levels of irrigation, haying, and grazing to manage refuge habitats | Haying and grazing used to manage refuge habitats Agricultural crops used solely as a tool to reestablish native habitats Consider removing water management infrastructure to replace current irrigation with overbank flooding during river high flows to manage wet meadow and wetland habitats | Upland habitats are managed and restored to increase wildlife productivity and diversity. Wet meadow and wetland habitats are managed with water diversions from the Bear River. Agricultural practices are geared to enhance refuge habitats for wildlife. | Same as Alternative C.
Monitoring and Research | Maintain partnerships on limited and opportunistic monitoring of wildlife populations, habitats and water quality conditions Continue permitting research activities when compatible with refuge purposes | Same as Alternative A | Same as alternative A, but in more programmatic fashion. Plus the staff: Pursues funding and research opportunities with higher education institutions; Actively seeks new partners to enhance its monitoring capabilities. | Same as Alternative C, plus the refuge: Expands partnerships to include new partners throughout Wyoming's Bear River watershed.
Invasive Species | Continue coordinating and working with the Lincoln County to monitor and control treat invasive plants through integrated pest management, including chemical, biological, and mechanical methods | Same as Alternative A. Plus the staff: Works with cooperators to address invasive aquatic species throughout Bear River watershed. Works with partners to control carp, and improve water quality on refuge wet meadow and riverine habitats | Same as Alternative B | Same as Alternative B. Plus: The staff expands its involvement and partnerships to control invasive species throughout Wyoming's Bear River watershed.
Wildlife Disease, Crop Depredation, and Wildlife Damage to Private Property. | Continue work with the State to separate elk herd from cattle on refuge lands to keep wildlife diseases from domestic cattle. Continue to grow small grain crops on refuge lands to keep migratory birds from depredating on private crops. | The refuge establishes hunt program which would alleviate wildlife and cattle comingling and crop depredation issues. | Same as Alternative B | Same as Alternative B.
Funding, Staffing, Infrastructure, and Partnerships. | Refuge to remain unmanned No new or added vehicles, infrastructure or equipment. Replace them only as needed. Current staffing and funding will preclude pursuing new partnerships. | Staffing and funding would need to be expanded to: Carry out the plan; Build and maintain access roads, auto tour route, and parking facilities; Maintain existing and establish new partnerships. | Same as Alternative B | Same as Alternative B.

Public Meeting

Opportunity for public input will be provided at the following public open house meeting.

Date | Time | Location
September 26, 2013 | 5:30-7:30 p.m | Cokeville High School, Auditorium, 435 Pine Street, Cokeville, WY 83114.

Next Steps

After the public reviews and provides comments on the draft CCP and EA, the planning team will present this document, along with a summary of all substantive public comments, to the Regional Director. The Regional Director will consider the environmental effects of each alternative, including information gathered during public review, and will select a preferred alternative for the draft CCP and EA. If the Regional Director finds that no significant impacts would occur, the Regional Director's decision will be disclosed in a finding of no significant impact included in the final CCP. If the Regional Director finds a significant impact would occur, an environmental impact statement will be prepared. If approved, the action in the preferred alternative will compose the final CCP.

Public Availability of Comments

All public comment information provided voluntarily by mail, by phone, or at meetings (e.g., names, addresses, letters of comment, input recorded during meetings) becomes part of the official public record. If requested under the Freedom of Information Act by a private citizen or organization, the Service may provide copies of such information.

Authority

The environmental review of this project will be conducted in accordance with the requirements of the National Environmental Policy Act (NEPA) of 1969, as amended (42 U.S.C. 4321 et seq.); NEPA Regulations (40 CFR parts 1500-1508, 43 CFR Part 46); other appropriate Federal laws and regulations; Executive Order 12996; the National Wildlife Refuge System Improvement Act of 1997; and Service policies and procedures for compliance with those laws and regulations.

Dated: August 20, 2013.
Noreen Walsh,
Regional Director, Mountain-Prairie Region, U.S. Fish and Wildlife Service.

[FR Doc. 2013-23107 Filed 9-20-13; 8:45 am]

BILLING CODE 4310-55-P